DEPARTMENT OF JUSTICE

Notice of Lodging of Consent Decree Under Comprehensive Environmental Response, Compensation and Liability Act

Under 28 CFR 50.7, notice is hereby given that on October 11, 2002, a proposed consent decree in Reinhold Industries, Inc. v. The National Park Service, 01 Civ. 1806 (MBM), was lodged with the United States District Court for the Southern District of New York.

In this action, Reinhold Industries, Inc. (“Reinhold”) seeks a declaratory judgment that any claims asserted by the United States for recovery of costs incurred, or to be incurred, for response actions taken at or in connection with the release or threatened release of hazardous substances at the Valley Forge National Historic Park in Montgomery, Pennsylvania (“Valley Forge”) were discharged in bankruptcy. The United States, on behalf of the Secretary of the United States Department of Interior's (“DOI”) National Park Service, filed a counterclaim pursuant to section 107 of the Comprehensive Environmental Response, Compensation, and Liability Act of 1980, as amended (“CERCLA”), 42 U.S.C. 9607, against Reinhold seeking reimbursement of response costs incurred in connection with Valley Forge.

Pursuant to the proposed consent decree, Reinhold shall make a payment in the amount of $500,000.00 to the DOI in reimbursement of response costs.

The Department of Justice will receive comments relating to the proposed consent decree for a period of thirty (30) days from the date of this publication. Comments should be addressed to the Assistant Attorney General, Environment and Natural Resources Division, and transmitted by one of the following methods: (1) Via U.S. Mail to P.O. Box 7611, U.S. Department of Justice, Washington, DC 20044-7611; (2) by facsimile to (202) 353-0296; and/or (3) by overnight delivery, other than through the U.S. Postal Service, c/o Chief, Environmental Enforcement Section, 1425 New York Avenue, NW., 13th Floor, Washington, DC 20005. Each communication should reference Reinhold Industries, Inc. v. The National Park Service, DOJ # 90-11-2-06991.

The proposed consent decree may be examined at the United States Attorney's Office, 33 Whitehall Street, New York, New York—contact AUSA Silvia L. Serpe at (718) 422-5686. A copy of the proposed consent decree may also be obtained by mail from the Consent Decree Library, P.O. Box 7611, U.S. Department of Justice, Washington, DC 20044-7611. When requesting a copy, please enclose a check in the amount of $8.50 (25 cents per page reproduction cost) payable to the U.S. Treasury. Exhibits to the consent decree may be obtained for an additional charge.

Robert Brook,
Assistant Section Chief, Environmental Enforcement Section, Department of Justice.

[FR Doc. 02-28948 Filed 11-14-02; 8:45 am]

BILLING CODE 4410-15-M